DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the National Urban Search and Rescue (US&R) grant program.

SUPPLEMENTARY INFORMATION: Section 303 of the Robert T. Stafford Disaster Relief and Emergency Assistance Act (Stafford Act), 42 U.S.C. 5144, authorizes the President of the United States to form emergency Support teams of Federal personnel to be deployed in an area affected by a major disaster or emergency. Under Section 403(a)(3)(B) of the Stafford Act provides that the President may authorize Federal agencies to perform work on public or private lands essential to save lives and protect property, including search and rescue and emergency medical care, and other essential needs. FEMA established the National Urban Search and Rescue Response System (US&R) under these authorities. The President amended E.O. 121448 to transfer the FEMA Director's delegated authority to the Secretary of Homeland Security.

Collection of Information

Title: National Urban Search and Rescue Program Agreement, Application, Reporting, and Audit Requirement.

Type of Information Collection: Revision of a currently approved collection.

OMB Number: 1660-0073.

Form Numbers: None.

Abstract: The information collection activity is the collection of financial, program and administrative information for US&R Sponsoring Organizations relating to preparedness and response grant awards. This information includes a narrative statement that FEMA uses to evaluate a grantee's proposed use of funds, progress reports to monitor overall progress on managing FEMA grant program, extension or change requests used to consider changing or extending the time or the performance period of the preparedness or response cooperative agreement and a memorandum of agreement between DHS/FEMA and the Sponsoring Organizations of US&R task forces as described below.

Narrative Statement: FEMA uses narrative statements to evaluate a grantee's proposed use of funds. Examples of information a grantee needs to provide FEMA for preparedness and response cooperative agreements are a description of the types of eligible activities the grantee will undertake, a plan for expending and monitoring funds, and an estimate of the percentage or amount of funds the grantee will pass through to sub-grantees. Sponsoring Organizations make this information available to FEMA only when we request it. If a Sponsoring Organization has remaining preparedness or response cooperation agreement funds after completing specific disaster or preparedness work, we will require a second narrative statement describing the grantee's proposed use of the remaining funds.

Progress Reports: FEMA program officers use progress reports to monitor overall progress on managing FEMA grant programs. We do not prescribe a particular format; however, we ensure that the OMB standard elements outlined in the common rule, 44 CFR part 13, are in any report or suggested format.

Extension or Change Requests: Grantees that want FEMA to consider changing or extending the time or the performance period of the preparedness or response cooperative agreement will need to request such changes or extensions in writing. FEMA will use the information to ensure that the Sponsoring Organization spends funds consistent with the intent of the appropriations an in accordance with applicable laws and guidance. This type of information is available to FEMA only when we request it.

Affected Public: State, local, or tribal government.

Estimated Total Annual Burden Hours:

Annual Burden Hours
Project/activity (survey, form(s), focus group, etc.) | No. of respondents (A) | Frequency of responses (B) | Burden hours per respondent (C) | Annual responses (A × B) | Total annual burden hours (A × B × C)
Narrative Statement | 28 | 2 | 4 | 56 | 224
Progress Reports | 28 | 2 | 2 | 56 | 112
Extension or Change Requests | 5 | 1 | 1 | 5 | 5
Memorandum of Agreements | 28 | 1 | 4 | 28 | 112
Total | 28 |  | 11 | 229 | 453

Estimated Cost: The average cost for each respondent would be approximately $660. This would include the burden hour costs for extensions or change requests, revisions to existing memorandum of agreements and progress reports.

Comments: Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or beforeApril 7, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Wanda Casey, Program Specialist, National Urban Search and Rescue Program, (202) 646-4013 for additional information. You may contact the Records Management Branch for copies of the proposed collection of information at facsimile number (202) 646-3347 or e-mail address: FEMA-Information-Collections@dhs.gov.

Dated: January 31, 2006.
George S. Trotter,
Acting Branch Chief, Information Resources Management Branch, Information Technology Services Division.

[FR Doc. E6-1565 Filed 2-3-06; 8:45 am]

BILLING CODE 9110-69-P